DEPARTMENT OF THE TREASURY

Submission for OMB Review; Comment Request

September 25, 2012.

The Department of the Treasury will submit the following information collection request to the Office of Management and Budget (OMB) for review and clearance in accordance with the Paperwork Reduction Act of 1995, Public Law 104-13, on or after the date of publication of this notice.

DATES: Comments should be received on or before October 29, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave., NW., Suite 8140, Washington, DC 20220, or on-line at www.PRAComment.gov.

FOR FURTHER INFORMATION CONTACT: Copies of the submission(s) may be obtained by calling (202) 927-5331, email at PRA@treasury.gov, or the entire information collection request may be found at www.reginfo.gov.

Office of Foreign Assets Control (OFAC)

OMB Number: 1505-0164.

Type of Review: Revision of a currently approved collection.

Title: Reporting, Procedures and Penalties Regulations.

Form: TD F 90-22.50, 93.01 thru 93.07.

Abstract: Submissions will provide the U.S. Government with information to be used in enforcing various economic sanctions programs administered by OFAC under 31 CFR chapter V.

Affected Public: Private Sector: businesses or other for-profits; Not-for-profit institutions.

Estimated Total Annual Burden Hours: 47,780.

Robert Dahl,
Treasury PRA Clearance Officer.

[FR Doc. 2012-23860 Filed 9-27-12; 8:45 am]

BILLING CODE 4810-25-P